DEPARTMENT OF TRANSPORTATION

Federal Aviation Administration

14 CFR Part 39

[Docket No. FAA-2009-1033; Directorate Identifier 2009-NM-104-AD; Amendment 39-16326; AD 2010-12-05]

RIN 2120-AA64

Airworthiness Directives; Bombardier, Inc. Model CL-600-2C10 (Regional Jet Series 700, 701, & 702) Airplanes, Model CL-600-2D15 (Regional Jet Series 705) Airplanes, and Model CL-600-2D24 (Regional Jet Series 900) Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

Following in-flight test deployments on CL-600-2B19 aircraft, several Air-Driven generators (ADGs) failed to come online. Investigation revealed that, as a result of a wiring anomaly that had not been detected during ADG manufacture, a short circuit was possible between certain internal wires and their metallic over-braided shields, which could result in the ADG not providing power when deployed. * * *

The unsafe condition is failure of the ADG, which could lead to loss of several functions essential for safe flight. We are issuing this AD to require actions to correct the unsafe condition on these products.

DATES: This AD becomes effective July 12, 2010.

The Director of the Federal Register approved the incorporation by reference of a certain other publication listed in this AD as of April 30, 2009 (74 FR 13094, March 26, 2009).

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Fabio Buttitta, Aerospace Engineer, Airframe and Mechanical Systems Branch, ANE-171, FAA, New York Aircraft Certification Office, 1600 Stewart Avenue, Suite 410, Westbury, New York 11590; telephone (516) 228-7303; fax (516) 794-5531.

SUPPLEMENTARY INFORMATION:

Discussion

We issued a notice of proposed rulemaking (NPRM) to amend 14 CFR part 39 to include an AD that would apply to the specified products. That NPRM was published in the Federal Register on November 5, 2009 (74 FR 57268), and proposed to supersede AD 2009-06-18, Amendment 39-15855 (74 FR 13094, March 26, 2009). You may obtain further information by examining the MCAI in the AD docket.

Since we issued AD 2009-06-18, we have received notice that additional suspect air-driven generators may have been installed between the effective date of Canadian Airworthiness Directive CF-2008-10, dated February 5, 2008, and the effective date of the equivalent FAA AD, AD 2009-06-18. Therefore, we have determined that the actions required by paragraph (f)(1) of AD 2009-06-18 are also required for Model CL-600-2C10 airplanes having serial numbers 10266 through 10273 inclusive, and Model CL-600-2D15 and CL-600-2D24 airplanes having serial numbers 15163 through 15223 inclusive.

Comments

We gave the public the opportunity to participate in developing this AD. We considered the comments received.

Support for the NPRM

The Air Line Pilots Association, International (ALPA) supports the intent of the NPRM.

Request To Allow Previously Approved AMOCs

American Eagle Airlines (American Eagle) requests that we allow alternative methods of compliance (AMOCs) previously approved for AD 2009-06-18. American Eagle states that including a statement allowing previously approved AMOCs will prevent the need for duplicate requests for the same issue.

We agree with the commenter's request. We have determined that AMOCs previously approved for AD 2009-06-18 are acceptable for compliance with the corresponding requirements of this AD. We have added a statement to paragraph (h)(1) of this AD to allow AMOCs approved previously in accordance with AD 2009-06-18.

Explanation of Change Made to This AD

We have revised this AD to identify the legal name of the manufacturer as published in the most recent type certificate data sheet for the affected airplane models.

Conclusion

We reviewed the available data, including the comments received, and determined that air safety and the public interest require adopting the AD with the changes described previously. We determined that these changes do not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Explanation of Change to Costs of Compliance

Since issuance of the original NPRM, we have increased the labor rate used in the Costs of Compliance from $80 per work-hour to $85 per work-hour. The Costs of Compliance information, below, reflects this increase in the specified hourly labor rate.

Costs of Compliance

We estimate that this AD will affect about 304 products of U.S. registry. The actions that are required by AD 2009-06-18 and retained in this AD take about 5 work-hours per product, at an average labor rate of $85 per work hour. Required parts cost about $0 per product. Based on these figures, we estimate the cost of this AD to the U.S. operators to be $129,200, or $425 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15855 (74 FR 13094, March 26, 2009) and adding the following new AD:

2010-12-05 Bombardier, Inc.: Amendment 39-16326. Docket No. FAA-2009-1033; Directorate Identifier 2009-NM-104-AD.

Effective Date

(a) This airworthiness directive (AD) becomes effective July 12, 2010.

Affected ADs

(b) This AD supersedes AD 2009-06-18, Amendment 39-15855.

Applicability

(c) This AD applies to Bombardier, Inc. Model CL-600-2C10 (Regional Jet Series 700, 701, & 702) airplanes, having serial numbers (S/Ns) 10004 and subsequent; and Model CL-600-2D15 (Regional Jet Series 705) airplanes and Model CL-600-2D24 (Regional Jet Series 900) airplanes, having S/N 15002 and subsequent; certificated in any category.

Subject

(d) Air Transport Association (ATA) of America Code 24: Electrical power.

Reason

(e) The mandatory continuing airworthiness information (MCAI) states:

Following in-flight test deployments on CL-600-2B19 aircraft, several Air-Driven generators (ADGs) failed to come online. Investigation revealed that, as a result of a wiring anomaly that had not been detected during ADG manufacture, a short circuit was possible between certain internal wires and their metallic over-braided shields, which could result in the ADG not providing power when deployed. This directive mandates checking of the ADG and modification of the ADG internal wiring, if required. It also prohibits future installation of unmodified ADGs.

The unsafe condition is failure of the ADG, which could lead to loss of several functions essential for safe flight.

Restatement of Requirements of AD 2009-06-18, With No Changes

Actions and Compliance

(f) Unless already done, do the following actions.

(1) For airplanes identified in Table 1 of this AD: Within 12 months after April 30, 2009 (the effective date of AD 2009-06-18), inspect the serial number of the installed ADG. A review of airplane maintenance records is acceptable in lieu of this inspection if the serial number of the ADG can be conclusively determined from that review.

Table 1—Bombardier Airplane Identification
Model | Serial No.
CL-600-2C10 airplanes | 10004 through 10265.
CL-600-2D15 and CL-600-2D24 airplanes | 15002 through 15162.

(i) If the serial number is not listed in paragraph 1.A of Bombardier Service Bulletin 670BA-24-015, Revision A, dated December 18, 2006, no further action is required by this AD.

(ii) If the serial number is listed in paragraph 1.A of Bombardier Service Bulletin 670BA-24-015, Revision A, dated December 18, 2006 (“the service bulletin”), within 12 months after April 30, 2009, inspect the ADG identification plate and, as applicable, do the actions of paragraph (f)(1)(ii)(A) or (f)(1)(ii)(B) of this AD.

(A) If the identification plate is marked with the symbol “24-2,” no further action is required by this AD.

(B) If the identification plate is not marked with the symbol “24-2,” modify the ADG wiring in accordance with the Accomplishment Instructions of the service bulletin.

(2) For all Model CL-600-2C10 airplanes having S/N 10004 and subsequent, and Model CL-600-2D15 and CL-600-2D24 airplanes having S/N 15002 and subsequent: As of April 30, 2009, no ADG part number 604-90800-19 (761339E), having S/N 0101 through 0132, 0134 through 0167, 0169 through 0358, 0360 through 0438, 0440 through 0456, 0458 through 0467, 0469, 0471 through 0590, 0592 through 0597, 0599 through 0745, 0747 through 1005, or 1400 through 1439, may be installed on any airplane, unless the identification plate of the ADG is identified with the symbol “24-2.”

Note 1: Bombardier Service Bulletin 670BA-24-015, Revision A, dated December 18, 2006, refers to Hamilton Sundstrand Service Bulletin ERPS10AG-24-2, dated February 19, 2004, for further guidance on identifying the symbol “24-2.”

(3) Actions done before April 30, 2009, according to Bombardier Service Bulletin 670BA-24-015, dated May 17, 2004, are considered acceptable for compliance with the corresponding actions specified in paragraph (f)(1) of this AD, provided the ADG has not been replaced since those actions were done.

New Requirements of This AD

Actions and Compliance

(g) Unless already done, do the following actions.

(1) For airplanes identified in Table 2 of this AD: Within 12 months after the effective date of this AD, inspect the serial number of the installed ADG. A review of airplane maintenance records is acceptable in lieu of this inspection if the serial number of the ADG can be conclusively determined from that review.

Table 2—Additional Bombardier Airplane Identification
Model | Serial No.
CL-600-2C10 airplanes | 10266 through 10273 inclusive.
CL-600-2D15 and CL-600-2D24 airplanes | 15163 through 15223 inclusive.

(i) If the serial number is not listed in paragraph 1.A of Bombardier Service Bulletin 670BA-24-015, Revision A, dated December 18, 2006, no further action is required by this AD.

(ii) If the serial number is listed in paragraph 1.A of Bombardier Service Bulletin 670BA-24-015, Revision A, dated December 18, 2006 (“the service bulletin”), within 12 months after the effective date of this AD, inspect the ADG identification plate and, as applicable, do the actions of paragraph (g)(1)(ii)(A) or (g)(1)(ii)(B) of this AD.

(A) If the identification plate is marked with the symbol “24-2”, no further action is required by this AD.

(B) If the identification plate is not marked with the symbol “24-2”, modify the ADG wiring in accordance with the Accomplishment Instructions of the service bulletin.

(2) Actions done before the effective date of this AD according to Bombardier Service Bulletin 670BA-24-015, dated May 17, 2004, are considered acceptable for compliance with the corresponding actions specified in paragraph (g)(1) of this AD, provided the ADG has not been replaced since those actions were done.

FAA AD Differences

Note 2: This AD differs from the MCAI and/or service information as follows: The MCAI specifies to inspect Model CL-600-2C10 airplanes having S/Ns 10004 through 10265 inclusive and Model CL-600-2D15 and CL-600-2D24 airplanes having S/Ns 15002 through 15162 inclusive. This AD also specifies to inspect Model CL-600-2C10 airplanes having S/Ns 10266 through 10273, and Model CL-600-2D15 and CL-600-2D24 airplanes having S/Ns 15163 through 15223 inclusive.

Other FAA AD Provisions

(h) The following provisions also apply to this AD:

(1) Alternative Methods of Compliance (AMOCs): The Manager, New York Aircraft Certification Office, ANE-170, FAA, has the authority to approve AMOCs for this AD, if requested using the procedures found in 14 CFR 39.19. Send information to ATTN: Program Manager, Continuing Operational Safety, FAA, New York ACO, 1600 Stewart Avenue, Suite 410, Westbury, New York, 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD. AMOCs approved previously in accordance with AD 2009-06-18, Amendment 39-15855, are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Canadian Airworthiness Directive CF-2008-10, dated February 5, 2008; and Bombardier Service Bulletin 670BA-24-015, Revision A, dated December 18, 2006; for related information.

Material Incorporated by Reference

(j) You must use Bombardier Service Bulletin 670BA-24-015, Revision A, dated December 18, 2006, to do the actions required by this AD, unless the AD specifies otherwise.

(1) The Director of the Federal Register previously approved the incorporation by reference of Bombardier Service Bulletin 607BA-24-015, Revision A, dated December 18, 2006, on April 30, 2009 (74 FR 13094, March 26, 2009).

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on May 25, 2010.
Ali Bahrami,
Manager, Transport Airplane Directorate, Aircraft Certification Service.

[FR Doc. 2010-13427 Filed 6-4-10; 8:45 am]

BILLING CODE 4910-13-P